DEPARTMENT OF COMMERCE

National Oceanic and Atmospheric Administration

RIN 0648-XA875

International Affairs; Identification of Nations Whose Fishing Vessels Are Engaged in Fishing in Waters Beyond Any National Jurisdiction That Target or Incidentally Catch Sharks

AGENCY: National Marine Fisheries Service (NMFS), National Oceanic and Atmospheric Administration (NOAA), Commerce.

ACTION: Notice.

SUMMARY: On March 24, 2011, NMFS published a notice and requested information regarding nations whose vessels are engaged in fishing in waters beyond any national jurisdiction that target or incidentally catch sharks. However, upon further reflection and review of the statute, NMFS proposes to begin the process of making identifications by January 4, 2012, and publish the first identifications in the January 2013 Biennial Report to Congress, coincident with the next identification process under the IUU fishing and bycatch provisions of the Moratorium Protection Act.

DATES: Effective December 21, 2011.

FOR FURTHER INFORMATION CONTACT: Cheri McCarty, NMFS Office of International Affairs. (301) 427-8369.

SUPPLEMENTARY INFORMATION:

Background

The Shark Conservation Act of 2010 (S.850) amended the Moratorium Protection Act (16 U.S.C. 1826d-k) to require actions be taken by the United States to strengthen shark conservation. Specifically, these amendments to the Moratorium Protection Act require the Secretary of Commerce to identify: (1) Nations whose fishing vessels are engaged, or have been engaged during the preceding calendar year, in fishing activities or practices in waters beyond any national jurisdiction that target or incidentally catch sharks; and (2) nations that have not adopted a regulatory program to provide for the conservation of sharks, including measures to prohibit removal of any of the fins of a shark (including the tail) and discarding the carcass of the shark at sea, that is comparable to that of the United States, taking into account different conditions. The Secretary is required to begin making identifications not later than January 4, 2012.

NMFS solicited information from the public on activities of fishing vessels from foreign nations engaged in shark catch beyond any national jurisdiction on March 24, 2011 (76 FR 16616), and indicated that it anticipated making the first identifications under this statute by January 4, 2012. However, upon further reflection and review of the statute, NMFS proposes to begin the process of making identifications by January 4, 2012, and publish the first identifications in the January 2013 Biennial Report to Congress, coincident with the next identification process under the IUU fishing and bycatch provisions of the Moratorium Protection Act. This approach is consistent with the statute and will treat all identified nations equally. If identifications were made in January 2012, it would provide potentially-affected foreign nations only one year to become familiar with the new shark provisions before identification decisions were made and only one year to take the necessary actions to receive a positive certification. NMFS has already started collecting and analyzing information that could help the agency determine which nations may have vessels engaging in fishing activities or practices on the high seas that target or incidentally catch sharks.

Dated: December 15, 2011.
Rebecca Lent,
Director, Office of International Affairs, National Marine Fisheries Service.

[FR Doc. 2011-32690 Filed 12-20-11; 8:45 am]

BILLING CODE 3510-22-P